DEPARTMENT OF COMMERCE

National Oceanic and Atmospheric Administration

Submission for OMB Review; Comment Request

The Department of Commerce will submit to the Office of Management and Budget (OMB) for clearance the following proposal for collection of information under the provisions of the Paperwork Reduction Act.

Agency: National Oceanic and Atmospheric Administration (NOAA).

Title: Economic Value of Wildlife Viewing Passengers in Stellwagen Bank National Marine Sanctuary.

OMB Control Number: 0648-xxxx.

Form Number(s): None.

Type of Request: Regular (request for a new information collection).

Number of Respondents: 2,000.

Average Hours per Response: Screening survey, 2 minutes; full survey, 30 minutes.

Burden Hours: 568.

Needs and Uses: Stellwagen Bank National Marine Sanctuary is currently in the process of updating the 2010 Management Plan, and has identified a lack of baseline socioeconomic information on ocean recreation businesses. The information is not available to assess the possible economic benefits of marine wildlife protection to the local economy, or the potential impact on ocean recreation businesses. The type of data targeted for this collection; that is, user demographic profiles, importance/satisfaction of wildlife viewing trips and expenditures of trips that involve wildlife viewing has never been collected in this region. Thus, current information on the importance/satisfaction of marine wildlife viewing and the expenditures generated from these activities is needed. The primary focus for the survey will be to gather data on the non-consumptive, importance/satisfaction and expenditures of marine wildlife viewing passengers. Specifically, researchers will collect data to help determine the contribution of marine wildlife watching passengers to the economy in the Stellwagen Bank region. Expenditures will be used in IMPLAN to estimate the economic contributions of the activity (jobs, income, GDP and value-added).

Affected Public: Individuals or households.

Frequency: Once or twice during a three-year period.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: March 28, 2018.
Sarah Brabson,
NOAA PRA Clearance Officer.

[FR Doc. 2018-06604 Filed 3-30-18; 8:45 am]

BILLING CODE 3510-NK-P